PENSION BENEFIT GUARANTY CORPORATION

Interest Rates and Assumptions Under Parts 4006, 4007, 4062, 4219, and 4281 of PBGC Regulations

AGENCY: Pension Benefit Guaranty Corporation.

ACTION: Notice about availability of interest rates and assumptions.

SUMMARY: For a number of years, Pension Benefit Guaranty Corporation has published in the Federal Register a monthly notice informing the public of the interest rates and assumptions to be used under parts 4006, 4007, 4062, 4219, and 4281 of PBGC regulations. These rates and assumptions are published elsewhere (or can be derived from rates published elsewhere) and are also available on PBGC's Web site, http://www.pbgc.gov. Now that plans subject to PBGC regulations are required to make premium filings electronically through PBGC's Web site, PBGC has concluded that it is no longer necessary to duplicate the posting of these interest rates and assumptions on its Web site by also publishing the monthly Federal Register notices. Accordingly, this notice informs the public that the monthly Federal Register notices of PBGC interest rates and assumptions will no longer be published and describes how to access the rates and assumptions on PBGC's Web site.

FOR FURTHER INFORMATION CONTACT: Catherine B. Klion, Manager, Regulatory and Policy Division, Legislative and Regulatory Department, Pension Benefit Guaranty Corporation, 1200 K Street, NW., Washington, DC 20005, 202-326-4024. (TTY/TDD users may call the Federal relay service toll-free at 1-800-877-8339 and ask to be connected to 202-326-4024.)

SUPPLEMENTARY INFORMATION: Several regulations of Pension Benefit Guaranty Corporation (PBGC) require the use of interest rates and assumptions that change monthly or quarterly. The regulations on Benefits Payable in Terminated Single-Employer Plans (29 CFR part 4022) and Allocation of Assets in Single-Employer Plans (29 CFR part 4044) require the use of interest rates and assumptions that are set by PBGC, and PBGC must amend those regulations monthly to promulgate new rates and assumptions. But other PBGC regulations refer to rates and assumptions that are not set by PBGC, but rather come from other sources. Thus persons using those regulations can determine the interest rates and assumptions they need to know without action by PBGC. For a number of years, PBGC has made the interest rates and assumptions available in monthly Federal Register notices and on its Web site. The regulations in this category are those on Premium Rates (29 CFR part 4006), Payment of Premiums (29 CFR part 4007), Liability for Termination of Single-Employer Plans (29 CFR part 4062), Notice, Collection, and Redetermination of Withdrawal Liability (29 CFR part 4219), and Duties of Plan Sponsor Following Mass Withdrawal (29 CFR part 4281).

On June 1, 2006 (at 71 FR 31077), PBGC published a final rule under which plans covered by the PBGC pension insurance program must make annual premium filings electronically. The e-filing requirement was phased in over two years and became applicable to all plans for plan years beginning after 2006. See 29 CFR 4007.3. Electronic premium filing is done through an application called “My Plan Administration Account” (“My PAA”) on PBGC's Web site. Thus, plans or their representatives are required to have access to PBGC's Web site in order to fulfill the premium e-filing obligation. Access to the Web site provides access to the interest rates and assumptions for use under the five regulations listed above because those rates and assumptions are posted on the Web site. PBGC has concluded that it is no longer necessary both to update the interest rates and assumptions on the Web site and to publish notice of the rates and assumptions in the Federal Register. Accordingly, PBGC is discontinuing publication of the monthly Federal Register notices. Monthly publication of final rules amending the benefit payments and allocation regulations (parts 4022 and 4044) will continue because of the need to amend those regulations each month to provide interest rates and assumptions set by PBGC.

To access the interest rates and assumptions on PBGC's Web site (http://www.pbgc.gov), go to the “practitioner's page” (by clicking on “Practitioners” at the top or left side of the home page). The interest rates and assumptions are listed at the top of the left column on the “practitioners page.”

• For the interest rates for use in determining variable-rate premiums under the premium rates regulation (part 4006), click on the link to “variable rate premiums.”

• For the interest rates applied to late premium payments under the premium payment regulation (part 4007), click on the link to “late premium payments.”

• For the interest rates applied to under- and overpayments of employer liability under the termination liability regulation (part 4062), click on the link to “late premium payments.”

• For the interest rates for charging or crediting interest on under- and overpayments of withdrawal liability under the withdrawal liability notice and collection regulation (part 4219) unless an applicable plan provision provides otherwise, click on the link to “overdue or defaulted withdrawal liability.”

• For the interest rates and assumptions used for valuations under the plan sponsor duties regulation (part 4281), click on the link to “immediate and deferred annuities.”

The rates and assumptions also may be obtained by calling PBGC's interest rate hotline at 202-326-4041 or by contacting Larry Shirley in PBGC's Policy, Research & Analysis Department at 202-326-4080, ext. 3474, or shirley.larry@pbgc.gov.

Issued in Washington, DC, on this 9th day of January 2008.
Vincent K. Snowbarger,
Deputy Director, Pension Benefit Guaranty Corporation.

[FR Doc. E8-568 Filed 1-14-08; 8:45 am]

BILLING CODE 7709-01-P